DEPARTMENT OF TRANSPORTATION

Federal Aviation Administration

Office of Commercial Space Transportation: Notice of Availability for the Final Programmatic Environmental Assessment and Finding of No Significant Impact for the Shuttle Landing Facility Reentry Site Operator License

AGENCY: Federal Aviation Administration (FAA), Department of Transportation (DOT).

ACTION: Notice of availability.

SUMMARY: In accordance with the National Environmental Policy Act of 1969, as amended (NEPA), Council on Environmental Quality NEPA implementing regulations, and FAA Order 1050.1F, Environmental Impacts: Policies and Procedures, the FAA is announcing the availability of the Final Programmatic Environmental Assessment and Finding of No Significant Impact for the Shuttle Landing Facility (SLF) Reentry Site Operator License (Final PEA and FONSI).

FOR FURTHER INFORMATION CONTACT: Stacey Zee, Environmental Protection Specialist, Federal Aviation Administration, 800 Independence Avenue SW, Suite 325, Washington, DC 20591; phone (202) 267-9305; email Stacey.Zee@faa.gov.

SUPPLEMENTARY INFORMATION: The FAA is the lead agency. The National Aeronautics and Space Administration, U.S. Space Force, U.S. Fish and Wildlife Service, and the National Park Service are cooperating agencies for the PEA due to their special expertise and jurisdictions.

The FAA has prepared the Final PEA to evaluate the potential environmental impacts of the FAA issuing a Reentry Site Operator License to Space Florida for the operation of a commercial space reentry site at the SLF located at the Cape Canaveral Spaceport, which includes the Kennedy Space Center and the Cape Canaveral Space Force Station (formerly called the Cape Canaveral Air Force Station). Under the Proposed Action, the FAA would issue a Reentry Site Operator License to Space Florida, which would authorize Space Florida to offer the SLF as a horizontal reentry and landing site to prospective commercial space reentry vehicle operators.

A programmatic document is a type of general, broad environmental review from which subsequent NEPA documents can be tiered, focusing on the issues specific to the subsequent action (40 CFR 1502.20). If a commercial space operator applies to the FAA for a reentry license to conduct reentry operations at the SLF, that operator would develop a separate environmental document, tiering off the PEA, to support their application. The tiered environmental document would be a more detailed analysis based on vehicle specific operations.

The Final PEA evaluated the potential environmental impacts of the Proposed Action and the No Action Alternative. Under the No Action Alternative, the FAA would not issue a Reentry Site Operator License to Space Florida for operating a commercial space reentry site at the SLF.

The FAA published a Draft PEA for public comment on October 30, 2020 and held a virtual public meeting on December 2, 2020. The public comment period closed on December 7, 2020. The FAA received 3 public comments. The FAA considered all public comments when preparing the Final PEA.

The FAA has posted the Final PEA and FONSI on the FAA Office of Commercial Space Transportation website: https://www.faa.gov/space/environmental/nepa_docs.

Issued in Washington, DC.
Daniel P. Murray,
Manager, Safety Authorization Division.

[FR Doc. 2021-01575 Filed 1-25-21; 8:45 am]

BILLING CODE 4910-13-P